NATIONAL TRANSPORTATION SAFETY BOARD

Public Hearing

The National Transportation Safety Board will convene a public hearing beginning at 9:00 a.m., local time on Wednesday, January 26-29, 2000, at the Arkansas Excelsior Hotel, Three Statehouse Plaza, Little Rock, Arkansas 72201, concerning American Airlines, Inc., Flight 1420, McDonnell Douglas MD-82 Accident in Little Rock, Arkansas on June 1, 1999. For more information, contact Ben Berman, NTSB Office of Aviation Safety at (202) 314-6331 or Paul Schlamm NTSB Office of Public Affairs at (202) 314-6100.

Individuals requesting specific accommodation should contact Mrs. Carolyn Dargan on 202-314-6305 by Friday, January 21, 2000.

Dated: January 13, 2000.
Rhonda Underwood,
Federal Register Liaison Officer.

[FR Doc. 00-1283 Filed 1-19-00; 8:45 am]

BILLING CODE 7533-01-M